NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee for Social, Behavioral & Economic Sciences (SBE) (#1171) (Hybrid).

Date and Time: June 6-7, 2024, 10:00 a.m.-4:00 p.m. (Eastern).

Place:

NSF, 2415 Eisenhower Avenue, Room W 2230, Alexandria, VA 22314 (In-Person and Virtual).

The meeting will be held in a hybrid format, with some Advisory Committee members participating in person and others participating virtually. For members of NSF and the external community, livestreaming and registration links will be available through the following page: https://new.nsf.gov/sbe/advisory-committee.

Type of Meeting: Open.

Contact Persons: Kurt DeSoto, National Science Foundation, 2415 Eisenhower Avenue, Alexandria, VA 22314; Telephone: 703-292-8700.

Purpose of Meeting: To provide advice, recommendations and counsel on major goals and policies pertaining to SBE programs and activities.

Agenda:

• Welcome, Introductions, Approval of Previous Advisory Committee (AC) Meeting Summary, and Preview of Agenda

• Directorate for Social, Behavioral, and Economic Sciences (SBE) Update

• Discussion on the National Secure Data Service Demonstration and the National Artificial Intelligence Research Resource Pilot

• SBE Contributions to Building a Resilient Planet and Committee Discussion

• SBE Contributions to Creating Opportunities Everywhere and Committee Discussion

• New AC Member Presentation

• Advisory Committee on Environmental Research and Education Update

• Meeting with NSF Leadership

• Wrap-up, Assignments, Closing Remarks

Dated: May 6, 2024.
Crystal Robinson,
Committee Management Officer.

[FR Doc. 2024-10129 Filed 5-8-24; 8:45 am]

BILLING CODE 7555-01-P